ENVIRONMENTAL PROTECTION AGENCY

[FRL-8734-1]

National Advisory Council for Environmental Policy and Technology

AGENCY: Environmental Protection Agency (EPA).

ACTION: Notice of meeting; Request for Comments.

SUMMARY: Notice of Meeting—Under the Federal Advisory Committee Act, Public Law 92463, EPA gives notice of a meeting of the National Advisory Council for Environmental Policy and Technology (NACEPT). NACEPT provides advice to the EPA Administrator on a broad range of environmental policy, technology, and management issues. NACEPT is a committee of individuals who represent diverse interests from academia, industry, non-governmental organizations, and local, state, and tribal governments.

The purpose of the meeting is to discuss the draft findings from NACEPT's 20th anniversary report, sustainable water infrastructure, biofuels, EPA's 2009-2014 Strategic Plan Change Document, and EPA's Draft Information Access Strategy. A copy of the agenda for the meeting will be posted at http://www.epa.gov/ocem/nacept/cal-nacept.htm.

Request for Comments—In recognition of its 20th anniversary in 2008, NACEPT is preparing two reports that seek to: (1) Identify the issues and challenges EPA will face and should focus on over the next 5-10 years (“prospective report”), and (2) review NACEPT's activities and accomplishments during its 20-year history (“retrospective report”).

For the prospective report (#1 above), EPA has begun gathering input on the following ten questions about future environmental issues and trends and EPA's role in addressing them.

1. What do you consider to be the most influential long-term trends or forces (whether social, economic, technological, or otherwise) that are most likely to impact the environment over the next ten years?

2. What is your opinion on whether EPA is adequately addressing these trends or developments?

3. What steps could EPA take to improve its ability to anticipate and address these trends and related issues?

4. What do you consider to be the top environmental issues or challenges that the EPA must address in the next 10 years?

5. What might limit the Agency's ability to respond to the identified issues?

6. What are some specific steps that the Agency could take to respond to the issues and overcome the constraints?

7. What might the Agency look like ten years from now and what major changes in the way the Agency currently operates should be implemented now to achieve this ten year vision?

8. Over the next ten years, how would you define success for the EPA?

9. What measures would indicate success or failure for the Agency in the next ten years?

10. Is there anything else that you would like to add?

The initial findings that have emerged from the input received thus far include the following:

• Climate change presents a challenge that will require substantial EPA involvement over the next ten years and beyond.

• EPA does or should play a pivotal role as the nation's leading source of environmental science and technology and should foster collaborative and cooperative relationships with all public and private sector interests.

• Some factors that will influence the degree to which EPA is successful over the next ten years remain largely beyond the Agency's control.

The draft prospective report will be posted at http://epa.gov/ocem/nacept/reports/index.html. You may send your comments to Sonia Altieri at the contact information listed below. EPA will review the comments received, but will not respond to individual comments.

DATES: NACEPT will hold a two-day meeting on Thursday, November 13, 2008, from 9:30 a.m. to 6:30 p.m. and Friday, November 14, 2008, from 8:30 a.m. to 2 p.m.

ADDRESSES: The meeting will be held at the Gaylord National Resort and Convention Center, 201 Waterfront Street, National Harbor, MD 20745. The meeting is open to the public, with limited seating on a first-come, first-served basis.

FOR FURTHER INFORMATION CONTACT: Sonia Altieri, Designated Federal Officer, altieri.sonia@epa.gov, (202) 564-0243, U.S. EPA, Office of Cooperative Environmental Management (1601M), 1200 Pennsylvania Avenue, NW., Washington, DC 20460.

SUPPLEMENTARY INFORMATION: Requests to make oral comments or to provide written comments to the Council should be sent to Sonia Altieri, Designated Federal Officer, at the contact information above. All requests must be submitted no later than November 7, 2008.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: October 16, 2008.
Megan Moreau,
Acting, Designated Federal Officer.

[FR Doc. E8-25411 Filed 10-24-08; 8:45 am]

BILLING CODE 6560-50-P